DEPARTMENT OF TRANSPORTATION

Maritime Administration

Marine Transportation System National Advisory Council

ACTION: National Advisory Council Public Meeting.

SUMMARY: The Notice of Marine Transportation System National Advisory Council Public Meeting which was published in the January 12, 2001 issue of the Federal Register contains an error. The meeting, scheduled for Friday, February 2, 2001, will begin at 8:30 a.m., not 9:00 a.m., as originally stated.

FOR FURTHER INFORMATION CONTACT: Raymond Barberesi, (202) 366-4357; Maritime Administration, MAR 830, Room 7201, 400 Seventh St., SW., Washington, DC 20590; Raymond.Barberesi@marad.dot.gov.

(Authority: 5 U.S.C. App 2, Sec. 9(a)(2); 41 CFR 101-6. 1005; DOT Order 1120.3B)

Dated: January 11, 2001.
Murray A. Bloom,
Acting Secretary, Maritime Administration.

[FR Doc. 01-1415 Filed 1-16-01; 8:45 am]

BILLING CODE 4910-81-P